DEPARTMENT OF DEFENSE

Office of the Secretary

Threat Reduction Advisory Committee

AGENCY: Department of Defense, Office of the Under Secretary of Defense (Acquisition, Technology and Logistics).

ACTION: Notice of Advisory Committee Meeting.

SUMMARY: The Threat Reduction Advisory Committee will meet in closed session on Thursday, May 10, 2007, at the Defense Threat Reduction Agency (DTRA), and on Friday, May 11, 2007 in the Pentagon, Washington, DC.

The mission of the Committee is to advise the Under Secretary of Defense (Acquisition, Technology and Logistics) on technology security, combating weapons of mass destruction, chemical and biological defense, transformation of the nuclear weapons stockpile, and other matters related to the Defense Threat Reduction Agency's mission.

In accordance with Section 10(d) of the Federal Advisory Committee Act, Public Law 92-463, as amended (5 U.S.C. Appendix II), it has been determined that this Committee meeting concerns matters listed in 5 U.S.C. 552b(c)(1), and that accordingly the meeting will be closed to the public.

DATES: Thursday, May 10, 2007, (8 a.m. to 4 p.m.) and Friday, May 11, 2007, (8 a.m. to 9:30 a.m.)

ADDRESSES: Defense Threat Reduction Agency, Defense Threat Reduction Center Building, Conference Room G, Room 1252, 8725 John J. Kingman Road, Fort Belvoir, Virginia and the USD (AT&L) Conference Room (3E659), the Pentagon, Washington, DC.

FOR FURTHER INFORMATION CONTACT: Mr. Eric Wright, Defense Threat Reduction Agency/AST, 8725 John J. Kingman Road, MS 6201, Fort Belvoir, VA 22060-6201. Phone: (703) 767-5717.

Dated: March 5, 2007.
L.M. Bynum,
OSD Federal Register Liaison Officer, Department of Defense.

[FR Doc. 07-1139 Filed 3-9-07; 8:45 am]

BILLING CODE 5001-08-M